DEPARTMENT OF HOUSING AND URBAN DEVELOPMENT

[Docket No. FR-5800-N-25]

Notice of HUD's Funding Availability for Fiscal Years 2014 and 2015 Housing Counseling Training Grant Program

AGENCY: Office of the Assistant Secretary for Housing—Federal Housing Commissioner, Department of Housing and Urban Development (HUD).

ACTION: Notice of Funding Availability (NOFA) for the Department's Fiscal Year (FY) 2014-FY 2015 Housing Counseling Training Grant Program.

SUMMARY: This notice announces that HUD has posted on http://www.Grants.gov and http://www.HUD.gov its FY 2014 Housing Counseling Training Grant Program NOFA. The Housing Counseling Training NOFA is comprised of both the General Section to the Department's FY 2014 NOFAs for Discretionary Programs (General Section) published February 19, 2014 and this NOFA. In addition to the application requirements set forth in the NOFA, applicants must also comply with the requirements established in the General Section, and all Housing Counseling Training Program requirements. With this single FY 2014-FY 2015 NOFA and corresponding FY 2014 HUD General Section, HUD may conduct a competition for housing counseling training grant funding for both FY 2014 and FY 2015. HUD would use the applications received under this FY 2014 and FY 2015 NOFA, and the corresponding scores and funding methodology relevant to this NOFA, to make awards for FY2014, utilizing FY 2014 appropriations. HUD would use the same list and methodology to award FY 2015 funds, subject to the availability of appropriations and any other authority that may govern the award of FY 2015 funds. Grantees that receive FY 2014 housing counseling training funding will be contacted by HUD to determine their interest in FY 2015 funding. HUD would then rerun the FY 2014 funding formula, utilizing FY 2014 application data/scores, should FY 2015 funding becomes available, for those FY 2014 grantees that express interest and remain eligible. Doing this will enable HUD to make awards quickly after FY 2015 appropriations become available, and significantly reduce the application burden for counseling agencies. The General Section for FY 2014 will govern both the FY 2014 and FY 2015 comprehensive housing counseling grant funds.

FOR FURTHER INFORMATION CONTACT: Questions regarding specific program requirements should be directed to housing.counseling@hud.gov. Persons with hearing or speech impairments may access these numbers via TTY by calling the Federal Relay Service at 800-877-8339.

SUPPLEMENTARY INFORMATION: Today's Federal Register notice announces that HUD has posted its FY 2014 Housing Counseling Training Grant Program NOFA on http://www.Grants.gov and http://portal.hud.gov/hudportal/HUD?src=/program_offices/administration/grants/fundsavail.

Approximately $2 million is expected to be available for eligible applicants under this NOFA for FY 2014 through the Transportation, Housing and Urban Development, and Related Agencies Appropriations Act, 2014. Alternatively, HUD reserves the right to issue a supplemental or independent NOFA in FY 2015, perhaps limited to new Applicants, or for a specific housing counseling training related activity, for example to support HUD's efforts to embed housing counseling in FHA programs. The application deadline date is May 5, 2014. Applications must be received by Grants.gov no later than 11:59:59 p.m. Eastern Time on the application deadline date. See Section IV of the General Section, regarding application procedures, timely filing requirements, and grace period policy. HUD may issue a technical correction to this NOFA if necessary. Any such technical correction will provide detailed instructions for Applicants regarding the resubmission of applications to address the revised NOFA requirements.

Dated: April 17, 2014.
Anne M. Morillon,
Director, Grants Management and Oversight Division, Office of Strategic Planning and Management.

[FR Doc. 2014-09283 Filed 4-22-14; 8:45 am]

BILLING CODE 4210-67-P